DEPARTMENT OF HOMELAND SECURITY

Office of the Secretary

[Docket No. DHS-2011-0013]

Privacy Act of 1974; Department of Homeland Security/Office of Health Affairs—001 Contractor Occupational Health and Immunization Records System of Records

AGENCY: Privacy Office, DHS.

ACTION: Notice of Privacy Act system of records.

SUMMARY: In accordance with the Privacy Act of 1974 the Department of Homeland Security proposes to establish a new Department of Homeland Security system of records notice titled, “Department of Homeland Security/Office of Health Affairs—001 Contractor Occupational Health and Immunization Records System of Records.” This system collects occupational health and immunization management records. These records are collected as part of the Directorate of Science and Technology's Laboratories and field sites occupational health surveillance operations, in support of the Office of Health Affair's responsibilities for medical and health matters. This newly established system will be included in the Department of Homeland Security's inventory of record systems.

DATES: Submit comments on or before May 18, 2011. This new system will be effective May 18, 2011.

ADDRESSES: You may submit comments, identified by docket number DHS-2011-0013 by one of the following methods:

• Federal e-Rulemaking Portal: http://www.regulations.gov. Follow the instructions for submitting comments.

• Fax: 703-483-2999.

• Mail: Mary Ellen Callahan, Chief Privacy Officer, Privacy Office, Department of Homeland Security, Washington, DC 20528.

• Instructions: All submissions received must include the agency name and docket number for this rulemaking. All comments received will be posted without change to http://www.regulations.gov, including any personal information provided.

• Docket: For access to the docket to read background documents or comments received go to http://www.regulations.gov.

FOR FURTHER INFORMATION CONTACT: For general questions please contact: Chief Medical Officer (202-254-6479), Healthaffairs@HQ.DHS.Gov, Office of Health Affairs, Department of Homeland Security, Washington, DC 20520. For privacy issues please contact: Mary Ellen Callahan (703-235-0780), Chief Privacy Officer, Privacy Office, U.S. Department of Homeland Security, Washington, DC 20528.

SUPPLEMENTARY INFORMATION:

I. Background

In accordance with the Privacy Act of 1974, as amended, 5 U.S.C. 552a, the Department of Homeland Security (DHS) Office of Health Affairs (OHA) proposes to establish a new system of records titled, DHS/OHA—001 Contractor Occupational Health and Immunization Records System of Records. This system, under the authority of the Chief Medical Officer, collects occupational health and immunization management records as part of the Directorate of Science and Technology's (S&T's) Laboratories and Federally Funded Research and Development Centers (FFRDC) occupational health surveillance operations.

DHS/S&T Office of National Laboratories (ONL) develops, sustains and expands a coordinated network of S&T Laboratories and other FFRDC to help deliver critical homeland security capabilities. These S&T entities include: Chemical Security Analysis Center (CSAC), National Urban Science and Technology Laboratory (NUSTL), National Biodefense Analysis and Countermeasures Center (NBACC), Plum Island Animal Disease Center (PIADC), and Transportation Security Laboratory (TSL). ONL provides a coordinated, enduring core of productive science, technology, and engineering laboratories, organizations, and institutions, which can provide the knowledge and technology required to secure the Nation. In support of this effort, occupational health and immunization records are managed and maintained by a contracted, designated Competent Medical Authority (CMA). The CMA ensures verification of staff immunization status and general occupational health and safety, allowing them to work with specific material and use certain personal protective equipment in designated laboratory areas.

Occupational health surveillance programs are typically in place at institutions conducting biological research involving potentially high-risk agents to ensure occupational health of all personnel. As such, occupational health surveillance for contractors is commonly practiced at the S&T Laboratories and FFRDCs to ensure the health and safety of these individuals. A portion of the research conducted at the S&T Laboratories and FFRDCs involve working with biological threats and select agents and toxins. During such research, there is always a possibility that DHS contractors could become exposed to hazardous materials. It is part of biological laboratory best practices to maintain contractor's occupational health and immunization records to ensure that appropriate and timely medical care is provided in the case of any potential risk of exposure. In the event of individual exposure, maintenance of occupational health and immunization records will facilitate appropriate mitigation and treatment of the individual.

In conjunction with occupational health surveillance, during the course of research conducted at the laboratories, contractors are often required to wear certain articles of personal protective equipment, such as respirators, in order to access and work in specific areas of the laboratory. Maintaining occupational health records helps verify that the contractor meets the health requirements to use such equipment. Additionally, DHS contractors conducting foreign travel as part of their duties at DHS have to ensure that they receive all appropriate immunizations and vaccinations prior to their travels. Managing contractor immunization records will facilitate recordkeeping of this information.

The purpose of this system is to manage, quantify, monitor, and track occupational health and immunization records of contractors working at S&T Laboratories or FFRDCs, and employees and contractors from other Federal agencies assigned to those S&T entities created in support of S&T research mission and occupational health surveillance operations. The Department's authority for this collection is 6 U.S.C. 321e which authorizes the DHS Chief Medical Officer to ensure “internal and external coordination of all medical preparedness and response activities of the Department.” The Chief Medical Officer serves as the Department's primary point of contact on medical and health issues, and performs such other duties relating to the Chief Medical Officer's responsibilities as the Secretary may require. DHS Delegation 5001 (to the Assistant Secretary for Health Affairs (ASHA) and Chief Medical Officer) builds upon the Chief Medical Officer's statutory authority in 6 U.S.C. 321e by granting the Chief Medical Officer “the authority to exercise oversight over all medical and public health activities of” DHS. Section II, DHS Delegation 5001.

This system collects occupational health and immunization management records as part of S&T's Laboratories and FFRDC occupational health surveillance operations. Efforts have been made to safeguard records in accordance with applicable rules and policies, including all applicable DHS automated systems security and access policies. Strict controls have been imposed to minimize risk of compromising the information that is being stored. Access to the computer system containing the records in this system is limited to those individuals who have a need to know the information for the performance of their official duties and who have appropriate clearances or permissions. Routine uses contained in this notice include some from the Department's library of routine uses. Those include sharing with the Department of Justice (DOJ) for legal advice and representation; to a congressional office at the request of an individual; to the National Archives and Records Administration (NARA) for records management; to contractors in support of their contract assignment to DHS; to an agency, organization, or individual for audit; to agencies, entities, or individuals in the event of a security or information risk or compromise; to Federal, State, local and other governmental partners to enforce and prosecute laws and regulations; and to the news media where there exists a legitimate public interest. Routine Use H. is unique to this system and is for sharing with the Department of Energy when conducting research in collaboration with DHS under an interagency agreement or Memorandum of Understanding. There is no sharing with any other agencies or medical teams. This system of records will collect information under the Paperwork Reduction Act using the following forms: OMB No. 0579-0213/0920-0576, APHIS/CDC Form-1 Application for Registration for Possession, Use and Transfer of Select Agents and Toxins, Expires 12/31/2011; OMB No. 1110-0039, FBI Form FD-961 Bioterrorism Preparedness Act: Entity/Individual Information,Expires 10/31/2012; OMB No. 1117-0012, DEA Form 225 Application for Registration Under the Controlled Substance Act, Expires 03/31/2012.

It is important to note that neither OHA or S&T are subject to the provisions of the Health Insurance Portability and Accountability Act of 1996 (HIPAA) privacy regulation, “Standards for Privacy of Individually Identifiable Health Information” (Privacy Rule), 45 CFR Parts 160 and 164. OHA/S&T do not meet the statutory definition of a covered entity under HIPAA, 42 U.S.C. 1320d-1. Because OHA/S&T are not covered entities, the restrictions proscribed by the HIPAA Privacy Rule are not applicable.

This newly established system will be included in the Department of Homeland Security's inventory of record systems.

II. Privacy Act

The Privacy Act embodies fair information principles in a statutory framework governing the means by which the United States government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and lawful permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR part 5.

The Privacy Act requires each agency to publish in the Federal Register a description denoting the type and character of each system of records that the agency maintains, and the routine uses that are contained in each system in order to make agency record keeping practices transparent, to notify individuals regarding the uses to their records are put, and to assist individuals to more easily find such files within the agency. Below is the description of the DHS/OHA-001 Contractor Occupational Health and Immunization Records System of Records.

In accordance with 5 U.S.C. 552a(r), DHS has provided a report of this system of records to the Office of Management and Budget and to Congress.

System of Records

DHS/OHA-001.

System name:

Office of Health Affairs—Contractor Occupational Health and Immunization Records System of Records.

Security classification:

Unclassified, sensitive, and classified.

System location:

Records may be maintained at the Directorate of Science and Technology (S&T) Headquarters in Washington, DC at S&T Laboratories or Federally Funded Research and Development Centers (FFRDC), or by the contracted Competent Medical Authority, collecting the records on behalf of S&T.

Categories of individuals covered by the system:

Categories of individuals covered by this system include: S&T contractors working at S&T Laboratories (and other sites); FFRDC contractors; and contractors from other Federal agencies assigned to these S&T entities, whose occupational health and immunization records are created in support of the S&T's Laboratory research mission and occupational health surveillance operations. To note, Federal employees are specifically not covered by this system because they are covered by the Office of Personnel Management OPM/GOVT-10 Employee Medical File System Records system (June 19, 2006, 71 FR 35360).

Categories of records in the system:

Categories of records in this system include:

• Individual's full name;

• Date of birth and age;

• Gender;

• Work e-mail address;

• Work phone number;

• Work address;

• Organizational affiliation;

• Blood type;

• Immunization record;

• Other relevant occupational health records.

Authority for maintenance of the system:

The DHS Chief Medical Officer, under 6 U.S.C. 321e is authorized to ensure “internal and external coordination of all medical preparedness and response activities of the Department”, to serve as the Department's primary point of contact on medical and health issues, and to perform such other duties relating to the Chief Medical Officer's responsibilities as the Secretary may require. DHS Delegation 5001 (to the Assistant Secretary for Health Affairs (ASHA) and Chief Medical Officer) builds upon the Chief Medical Officer's statutory authority in 6 U.S.C. 321e by granting the Chief Medical Officer “the authority to exercise oversight over all medical and public health activities of” DHS. Section II, DHS Delegation 5001. Additionally, the Delegation authorizes the Chief Medical Officer to assure an effective coordinated medical response to natural or man-made disasters or acts of terrorism, including “[s]upporting the National Operations Center, National Response Coordination Center, and Component leadership to ensure that operations have appropriate medical support, to specifically include coordination of medical activities for any level of incident with biological or medical consequences.”

Purpose(s):

The purpose of this system is to manage, quantify, monitor, and track occupational health and immunization records of contractors working at S&T Laboratories or FFRDCs, and employees and contractors from other Federal agencies assigned to those S&T entities created in support of S&T research mission and occupational health surveillance operations.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To the Department of Justice (including United States Attorney Offices) or other Federal agency conducting litigation or in proceedings before any court, adjudicative or administrative body, when it is necessary to the litigation and one of the following is a party to the litigation or has an interest in such litigation:

1. DHS or any component thereof;

2. Any employee of DHS in his/her official capacity;

3. Any employee of DHS in his/her individual capacity where DOJ or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, Tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To the Department of Energy when conducting research in collaboration with DHS under an interagency agreement, a Memorandum of Understanding, or Memorandum of Agreement.

I. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Records in this system are stored electronically or on paper in secure facilities in a locked drawer behind a locked door. The records are stored on magnetic disc, tape, digital media, and CD-ROM.

Retrievability:

Records may be retrieved by an individual's name, date of birth, e-mail address, and/or work telephone number.

Safeguards:

Records in this system are safeguarded in accordance with applicable rules and policies, including all applicable DHS automated systems security and access policies. Strict controls have been imposed to minimize the risk of compromising the information that is stored. Access to the computer system containing the records in this system is limited to those individuals who have a need to know the information for the performance of their official duties and who have appropriate clearances or permissions.

Retention and disposal:

Records will be maintained in accordance with the National Archives and Records Administration (NARA) approved General Records System 1, Item 19, which covers forms, correspondence, and other records, including summary records documenting an individual employee's medical history, physical condition, and visits to the Government health-facilities, for non-work related purposes. Occupational health and immunization records maintained at field sites will be retained by the laboratories contract operators. Records are deleted/destroyed when S&T or laboratory contract operators determine that they are no longer needed for administrative, legal, audit, or other operational purposes.

System Manager and address:

Directorate of Science and Technology Laboratory Operations and Oversight Manager (202-254-6400), Directorate of Science and Technology, Department of Homeland Security, Washington, DC 20520.

Notification procedure:

Individuals seeking notification of and access to any record contained in this system of records, or seeking to contest its content, may submit a request in writing to S&T's FOIA Officer, whose contact information can be found at http://www.dhs.gov/foia under “contacts.”

When seeking records about yourself from this system of records your request must conform with the Privacy Act regulations set forth in 6 CFR part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov or 1-866-431-0486. In addition you should provide the following:

• An explanation of why you believe the Department would have information on you;

• Identify which component(s) of the Department you believe may have the information about you;

• Specify when you believe the records would have been created;

• Provide any other information that will help the FOIA staff determine which DHS component agency may have responsive records; and

• If your request is seeking records pertaining to another living individual, you must include a statement from that individual certifying his/her agreement for you to access his/her records.

Without this bulleted information the component(s) may not be able to conduct an effective search, and your request may be denied due to lack of specificity or lack of compliance with applicable regulations.

Record access procedures:

See “Notification procedure” above.

Contesting record procedures:

See “Notification procedure” above.

Record source categories:

Records are obtained by the subject individual.

Exemptions claimed for the system:

None.

Dated: March 24, 2011.
Mary Ellen Callahan,
Chief Privacy Officer, Department of Homeland Security.

[FR Doc. 2011-9331 Filed 4-15-11; 8:45 am]

BILLING CODE 9110-9F-P